DEPARTMENT OF TRANSPORTATION

National Highway Traffic Safety Administration

[Docket No. NHTSA-2024-0097; Notice 1]

Ford Motor Company, Receipt of Petition for Decision of Inconsequential Noncompliance

AGENCY: National Highway Traffic Safety Administration (NHTSA), Department of Transportation (DOT).

ACTION: Receipt of petition.

SUMMARY: Ford Motor Company (Ford) has determined that certain model year (MY) 2020-2025 Ford Transit motor vehicles do not fully comply with Federal Motor Vehicle Safety Standard (FMVSS) No. 108, Lamps, Reflective Devices, and Associated Equipment. Ford filed a noncompliance report dated October 25, 2024, and subsequently petitioned NHTSA (the “Agency”) on November 15, 2024, for a decision that the subject noncompliance is inconsequential as it relates to motor vehicle safety. This document announces receipt of Ford's petition.

DATES: Send comments on or before January 15, 2026.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Kelley Adams-Campos, Safety Compliance Engineer, NHTSA, Office of Vehicle Safety Compliance, (202) 366-7479.

SUPPLEMENTARY INFORMATION:

I. Overview: Ford determined that certain MY 2020-2025 Ford Transit motor vehicles do not fully comply with paragraph S7.1.1.6 and Table IV-a of FMVSS No. 108, Lamps, Reflective Devices, and Associated Equipment. (49 CFR 571.108).

Ford filed a noncompliance report dated October 25, 2024, pursuant to 49 CFR part 573, Defect and Noncompliance Responsibility and Reports. Ford petitioned NHTSA on November 15, 2024, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Ford's petition is published under 49 U.S.C. 30118 and 30120 and does not represent any agency decision or another exercise of judgment concerning the merits of the petition.

II. Vehicles Involved: Approximately 14,967 MY 2020-2025 Ford Transit motor vehicles, manufactured between May 1, 2019, to October 10, 2024, were reported by the manufacturer. Ford notes that the noncompliance affects the Transit vehicles with an overall width greater than or equal to 80 inches,¹ built at the Kansas City Assembly Plant, equipped with High Intensity Discharge (HID) headlamps. This includes all Dual Rear Wheel vehicles, Transit Trail Adventure Vans, and Single Rear Wheel Cutaways and Chassis-Cab vehicles fitted with an upfitter box that is at least 80 inches wide.

¹ This receipt notice uses “80 inches” and “2032 mm” interchangeably.

III. Rule Requirements: Paragraph S7.1.1.6 of FMVSS No. 108 includes the requirements relevant to this petition. Paragraph S7.1.1.6 references Table IV-a which provides the required minimum effective projected luminous lens area (EPLLA) values for front turn signal lamps. Specifically, the required EPLLA minimum value for front turn signal lamps on multipurpose passenger vehicles, trucks, trailers, and buses 2032 mm or more in overall width is 7500 sq mm.

IV. Noncompliance: Ford explains that the front turn signal lamps installed on the subject vehicles have an EPLLA of 6313 sq mm, which is less than the minimum 7500 sq mm required for vehicles with an overall width of 2032 mm or more.

V. Summary of Ford's Petition: The following views and arguments presented in this section, “V. Summary of Ford's Petition,” are the views and arguments provided by Ford. They have not been evaluated by the Agency and do not reflect the views of the Agency. Ford describes the subject noncompliance and contends that the noncompliance is inconsequential as it relates to motor vehicle safety.

On September 5, 2024, Ford's Critical Concern Review Group (CCRG) determined, after review, that certain Ford Transit vehicles built at its Kansas City Assembly Plant (KCAP) were equipped with front turn signal lamps that did not meet the minimum EPLLA required by paragraph S7.1.1.6 and Table IV-a of FMVSS No. 108. Ford clarifies that the subject noncompliance does not affect Ford Transit vehicles fitted with halogen headlamps which have front turn signal lamps with an EPLLA of 7530 sq mm. Ford notes that on September 15, 2024, a stop-ship was issued at KCAP and that, as of October 13, 2024, there are no warranty claims, field reports, customer complaints or Vehicle Owner Questioners (VOQs) regarding the subject noncompliance. Ford also states that on November 18, 2024, KCAP “started to build” ² Transit vehicles with compliant HID headlamps with front turn signal EPLLA that exceeds 7500 sq mm.

² Ford's petition is dated November 15, 2024.

Ford argues that “in order to make a determination that the noncompliance is inconsequential to safety, one should evaluate it from the viewpoint of a pedestrian or other drivers.” Ford approaches its analysis from this viewpoint and gives five reasons why the subject noncompliance is inconsequential to motor vehicle safety:

1. Ford states that there is no perceptible difference between the illuminated area of a noncompliant Transit HID front turn signal lamp and a compliant front turn signal lamp.

Ford states that results from a jury evaluation it conducted demonstrate that there is no reasonably perceptible difference in the illuminated area of a compliant versus noncompliant Transit HID headlamp front turn signal. Ford explains that, for the jury evaluation, two Transit vehicles were set up as follows: One having the right-hand headlamp (A) with a “compliant” turn signal (EPLLA greater than 7500 sq mm) and the left-hand headlamp (B) with the subject noncompliant turn signal (EPLLA of 6313 sq mm), each with clean headlamp lens surfaces. The other vehicle was set up having the right-hand headlamp (C) with the subject noncompliant turn signal (EPLLA of 6313 sq mm) and the left-hand headlamp (D) with a “compliant” turn signal (EPLLA greater than 7500 sq mm), with both headlamp lens surfaces covered with dirt. According to Ford, twenty-five (25) jurors were positioned directly in front of the turn signal under observation, from varied standing distances and one seated distance, (to simulate pedestrian and driver). Ford states that observations were made in simulated daytime and nighttime conditions, with the parking lamps illuminated during the nighttime evaluation “as it is required that parking lights be activated during nighttime conditions.” Ford explains that the “[L]eft-hand and right-hand headlamps were observed in quick succession” and that the jurors did not know which front turn signal had the larger or smaller EPLLA. The jurors were asked to determine if they could identify which front turn signal lamps were larger or more noticeable on each vehicle. Ford states the results of its jury evaluation show that, for both vehicle set-ups, jurors found no significant size or conspicuity difference between compliant and noncompliant front turn signal lamps.³

³ See Appendix A of Ford's petition for the jury evaluation set up, juror questionnaire, viewing positions and jury evaluation results.

2. Ford contends that the nominal differences in overall width of the subject vehicles does not affect the amount of dirt and grime buildup on the headlamps.

Ford states that it conducted a Computer Aided Engineering airflow study to compare the airflow velocity profile around the headlamp of a Transit vehicle less than 80 inches in overall width with one greater than 80 inches wide.⁴ Ford concludes that the overall width of Transit vehicles does not affect the amount of dirt and grime buildup on the headlamp and Transit vehicles with a width greater than 80 inches, that have noncompliant front turn signals, would not be at greater risk due to dirt and grime buildup.

⁴ See Appendix B of Ford's petition for an overlay of the airflow velocity profiles around the headlamps.

3. Ford says that NHTSA has granted similar petitions in the past where the manufacturer conducted testing and analysis to demonstrate that the noncompliance would be imperceptible.

Ford believes that the following inconsequential noncompliance petitions granted by NHTSA support the granting of the current petition:

• Harley-Davidson Motor Company, Inc., Grant of Petition for Decision of Inconsequential Noncompliance; 79 FR 69558 (Nov. 21, 2014). The noncompliance in Harley-Davidson's petition concerned rear reflex reflectors mounted an average of 0.3 inches to 0.7 inches below the required 15 inches above the road surface of FMVSS No. 108.

• Porsche Cars North America, Inc., Grant of Petition for Decision of Inconsequential Noncompliance; 85 FR 62365 (Oct. 2, 2020). The noncompliance in Porsche's petition concerned rear reflex reflectors mounted approximately 0.2 inches below the required 15 inches above the road surface of FMVSS No. 108.

• General Motors Corporation; Grant of Application for Decision of Inconsequential Noncompliance; 63 FR 70179 (December 18, 1998). The noncompliance in GM's petition concerned the center high-mounted stop lamp that failed to meet the minimum photometric requirements of FMVSS No. 108.

• Osram Sylvania Products Incorporated, Grant of Petition for Decision of Inconsequential Noncompliance; (78 FR 46000) July 30, 2013. The noncompliance in Osram's petition concerned Type HB2 replaceable light sources failing to meet the required dimensions and electrical specifications pursuant to 571.564 as referenced by FMVSS No. 108 S7.7.⁵

⁵ Paragraph S7.7 of FMVSS No. 108 was replaced by paragraph S11 on December 4, 2007, w/effective date December 1, 2012 (72 FR 68234).

Ford adds that the subject noncompliance is distinct from an inconsequentiality petition by Winnebago (89 FR 77581) that was denied by NHTSA on September 23, 2024. The Winnebago petition concerned noncompliant front turn signal lamps with an EPLLA under the minimum specified in FMVSS No. 108.⁶ Ford gives several reasons why its petition is distinct from the Winnebago petition:

⁶ According to Winnebago's petition, the noncompliant front turn signal EPLLA was 6361 sq mm.

• Ford conducted a jury evaluation and analysis, to show that the difference in area is not perceptible between compliant and noncompliant front turn signal lamps.

• Ford conducted a CAE airflow study, to verify that there is not a greater masking effect of dirt and grime buildup on the noncompliant vehicles compared to compliant vehicles.

• Design differences between the Ford Transit vehicles and the Winnebago motorhomes ⁷ that Ford contends are important in reducing the propensity that dirt and grime will accumulate on the headlamps in Ford Transit vehicles. Ford explains that these differences include vehicle size, shape, width, front turn signal mounting layout, and aerodynamics. See Appendix C of Ford's petition.

⁷ Ford cites https://www.winnebago.com/brochure?model= (accessed Nov. 12, 2024).

4. The same front turn signals are used on Transit vehicles sold in Europe and meet all ECE requirements.

Ford states that it sells Transit vehicles in North America and Europe and that the same front turn signal lamps are used in the HID variants in both markets. Ford states that it measured the illuminating surface of the front turn signal lamp following the ECE methodology and found it to be greater than 7500 sq mm. Ford states it recognizes there is not an equivalent ECE requirement for EPLLA.

5. There are no known complaints, accidents or injuries related to this noncompliance.

Ford states that it searched its records and found no complaints, accidents, or reported injuries related to the noncompliant headlamps. Ford goes on to say that it “believes that the lack of complaints, accidents, or injuries is further evidence that this non-compliance is inconsequential and that non-compliant front turn signals are not perceptible in the field.”

Ford concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Ford no longer controlled at the time it determined that the noncompliance existed. However, any decision on this petition does not relieve vehicle distributors and dealers of the prohibitions on the sale, offer for sale, or introduction or delivery for introduction into interstate commerce of the noncompliant vehicles under their control after Ford notified them that the subject noncompliance existed.

(Authority: 49 U.S.C. 30118, 30120: delegations of authority at 49 CFR 1.95 and 501.8)

Otto G. Matheke III,
Director, Office of Vehicle Safety Compliance.

[FR Doc. 2025-22847 Filed 12-15-25; 8:45 am]

BILLING CODE 4910-59-P